NATIONAL AERONAUTICS AND SPACE ADMINISTRATION

[Notice 02-004]

Notice of Prospective Patent License

AGENCY: National Aeronautics and Space Administration.

ACTION: Notice of Prospective Patent License.

SUMMARY: NASA hereby gives notice that Boundary Layer Research Inc., of Everett, Washington has applied for an exclusive license to practice the invention disclosed in US Patent No. 5,738,298, entitled “Tip Fence for Reduction of Lift-Generated Airframe Noise,” which is assigned to the United States of America as represented by the Administrator of the National Aeronautics and Space Administration. Written objections to the prospective grant of a license should be sent to Ames Research Center.

DATES: Responses to this notice must be received by March 18, 2002.

FOR FURTHER INFORMATION CONTACT: Robert Padilla, Patent Counsel, NASA Ames Research Center, M/S 202A-3, Moffett Field, CA 94035-1000, (650) 604-5104.

Dated: January 5, 2002.
Robert M. Stephens,
Deputy General Counsel.

[FR Doc. 02-1021 Filed 1-15-02; 8:45 am]

BILLING CODE 7510-01-P